DEPARTMENT OF THE TREASURY

Submission for OMB Review; Comment Request

August 10, 2006.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before September 18, 2006 to be assured of consideration.

Community Development Financial Institutions Fund

OMB Number: 1559-XXXX.

Type of Review: New.

Title: Assessment of CDFI Fund Technical Assistance, Financial Assistance, Certification and Training.

Description: The CDFI Fund is conducting an independent assessment on the impact of its FA, TA, Certification and Training Programs via survey of past participants.

Respondents: Private and State, Local or Tribal Government.

Estimated Total Burden Hours: 689 hours.

Clearance Officer: Pamela Williams (202) 622-6355, Community Development Financial Institutions Fund, Department of the Treasury, 601 13th Street, NW., Suite 200 South, Washington, DC 20005.

OMB Reviewer: Alexander T. Hunt (202) 395-7316, Office of Management and Budget, Room 10235, New Executive Office Building, Washington, DC 20503.

Michael A. Robinson,
Treasury PRA Clearance Officer.

[FR Doc. E6-13573 Filed 8-16-06; 8:45 am]

BILLING CODE 4810-70-P